DEPARTMENT OF HEALTH AND HUMAN SERVICES

Centers for Disease Control and Prevention

Disease, Disability, and Injury Prevention and Control Special Emphasis Panel (SEP): Initial Review

The meeting announced below concerns Global and Territorial Health Research Network—Coordinating Center, Special Interest Projects (SIP)14-021; and Global and Territorial Health Research Network—Collaborating Centers, SIP14-022, Panel C, initial review.

In accordance with Section 10(a)(2) of the Federal Advisory Committee Act (Pub. L. 92-463), the Centers for Disease Control and Prevention (CDC) announces the aforementioned meeting:

Time and Date: 9:00 a.m.-6:00 p.m., June 17, 2014 (Closed).

Place: Teleconference.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “Global and Territorial Health Research Network—Coordinating Center, SIP14-021; and Global and Territorial Health Research Network—Collaborating Centers, SIP14-022, Panel C, initial review.”

Contact Person for More Information: Diana Bartlett, M.P.H., M.P.P., Health Scientist, CDC, 1600 Clifton Road NE., Mailstop D-72, Atlanta, Georgia 30333, Telephone: (404) 639-4938, ZXD5@CDC.GOV.

This notice is being published on less than 15 days prior to the meeting date because no earlier notification of the meeting was practicable.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-13388 Filed 6-6-14; 8:45 am]

BILLING CODE 4163-18-P